COMMITTEE FOR PURCHASE FROM PEOPLE WHO ARE BLIND OR SEVERELY DISABLED

Correction of Notice to Clarification of Scope of Procurement List Additions; 2007 Commodities Procurement List

In the notice appearing on page 31056, FR Doc E8-12103, Quarterly Update of the A-List, B-List and C-List, the Committee published the old URL for accessing the A-List.

The correct A-List is located at http://www.jwod.gov/jwod/p_and_s/A-List_08.html.

Kimberly M. Zeich,
Director, Program Operations.

[FR Doc. E8-12742 Filed 6-5-08; 8:45 am]

BILLING CODE 6353-01-P